FEDERAL COMMUNICATIONS COMMISSION

[OMB 3060-1042; FR ID 266288]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before February 4, 2025. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control No.: 3060-1042.

Title: Request for Technical Support—Help Request Form.

Form No.: N/A—Electronic only.

Type of Review: Extension of currently approved collection.

Respondents: Individuals or household; business or other for-profit; not-for-profit institutions; and state, local or tribal government.

Number of Respondents and Responses: 36,300 respondents and 36,300 responses.

Estimated Time per Response: 0.14 hours.

Frequency of Response: On occasion reporting requirement and recordkeeping requirement.

Obligation to Respond: Required to obtain or retain benefits. There is no statutory authority for this information collection. The Commission developed this information collection on its own motion to assist users of the Universal Licensing System (ULS) or other FCC electronic systems.

Total Annual Burden: 5,082 hours.

Total Annual Cost: $609,840.

Needs and Uses: The FCC maintains internet software used by the public to apply for licenses, participate in auctions for spectrum, and maintain license information. In this mission, FCC has a `help desk' that answers questions related to these systems as well as resetting and/or issuing user passwords for access to these systems.

The form currently is available on the website https://esupport.fcc.gov/request.htm under OMB Control Number 3060-1042. This form will continue to substantially decrease public and staff burden since all the information needed to facilitate a support request will be submitted in a standard format but be available to a wider audience. This eliminates or at least minimizes the need to follow-up with the customers to obtain all the information necessary to respond to their request. This form also helps presort requests into previously defined categories to all staff to respond more quickly.

Federal Communications Commission.
Marlene Dortch,
Secretary.

[FR Doc. 2024-28704 Filed 12-5-24; 8:45 am]

BILLING CODE 6712-01-P